DEPARTMENT OF AGRICULTURE

Forest Service

Land and Resource Management Plan Direction for Canada Lynx in Colorado and Southern Wyoming

AGENCY: Forest Service, USDA.

ACTION: Notice of intent to prepare an environmental impact statement in conjunction with amendments to land and resource management plans for the Routt National Forest; Arapaho and Roosevelt National Forests; Pike and San Isabel National Forests; the Sun Juan National Forest; Grand Mesa, Uncompahgre and Gunnison National Forests; and the Rio Grande National Forest located in the State of Colorado; and the Medicine Bow National Forest located in the State of Wyoming. The environmental impact statement will also evaluate proposed management direction pertaining to Canada lynx for the draft revised land and resource management plan for the White River National Forest, located in the State of Colorado. This notice replaces the notice of March 28, 2000 titled Land and Resource Management Plan Amendments for Canada Lynx in Colorado and Southern Wyoming.

SUMMARY: Pursuant to part 36 Code of Federal Regulations (CFR) 219.10(g), the Regional Forester for the Rocky Mountain Region gives notice of the agency's intent to prepare an environmental impact statement (EIS) in conjunction with the establishment of new management direction for the Canada lynx on National Forests in Colorado and Wyoming. On the basis of new information regarding lynx biology developed since the issuance of the land and resource management plans (hereafter referred to as Forest Plans or Plans) mentioned above, the Forest Service has identified a need to update management direction. This notice describes a proposal to change Forest Plans to the extent necessary to respond to recommendations in the Canada Lynx Conservation Assessment and Strategy (LCAS) and other new information regarding the Canada lynx and its habitat.

This new management direction will be established by amending the Land and Resource Management Plans for the Routt National Forest; Arapaho and Roosevelt National Forests; Pike and San Isabel National Forests; the San Juan National Forest; Grand Mesa, Uncompahgre and Gunnison National Forests; the Rio Grande National Forest, and the Medicine Bow National Forest. The White River National Forest will include lynx management direction in its final revised forest plan scheduled to be completed in May 2001. However, the proposed lynx management direction for the White River will be described and analyzed in this EIS in order (1) properly evaluate cumulative environmental effects, (2) adequately disclose such effects to the public, and (3) provide an opportunity for the public to comment on the proposed direction. The analysis of effects relating to the White River National Forest will be incorporated into the FEIS for that Forest's Revised Land and Resource Management Plan.

DATES: Comments concerning the scope of the analysis should be postmarked by August 14, 2000. The agency expects to file a draft environmental impact statement with the Environmental Protection Agency (EPA) and make it available for public, agency, and tribal government comment in the fall of 2000. A final environmental impact statement is expected to be filed in early 2001.

ADDRESSES: Send written comments to: Chris Liggett, Team Leader, Lynx Plan Amendment Team, USDA Forest Service, Rocky Mountain Region, PO Box 25127, Lakewood, Colorado 80225-0127.

FOR FURTHER INFORMATION CONTACT: Chris Liggett, Team Leader, (303) 275-5158.

RESPONSIBLE OFFICIAL: Lyle Laverty, Rocky Mountain Regional Forester, P.O. Box 25127, Lakewood, CO 80225-0127.

SUPPLEMENTARY INFORMATION: The Regional Forester gives notice that the Rocky Mountain Region of the USDA Forest Service is beginning an environmental analysis and decision-making process for this proposed action so that interested or affected people can participate in the analysis and contribute to the final decision. The Forest Service is seeking information, comments, and assistance from individuals, organizations, tribal governments, and federal, state, and local agencies who are interested in or may be affected by the proposed action (36 CFR 219.6). The public is invited to help identify issues and define the range of alternatives to be considered in the environmental impact statement. The range of alternatives to be considered in the DEIS will be based on issues and specific decisions to be made. Written comments identifying issues for analysis and the range of alternatives are encouraged.

Proposed Action

The proposed action has two parts: the first is to amend Forest Plans for the Routt National Forest; Arapaho and Roosevelt National Forests; Pike and San Isabel National Forests; the San Juan National Forest; Grand Mesa, Uncompahgre and Gunnison National Forests; the Rio Grande National Forest, and the Medicine Bow National Forest to, as necessary, establish or revise goals, objectives, standards, guidelines, and monitoring requirements that respond to recommendations contained in the LCAS and other new information regarding the lynx and its habitat. The decision to be made regarding this part of the proposed action is how to amend the Forest Plans listed above to incorporate the new direction regarding lynx, if at all.

The second part of the proposed action is to describe and evaluate management direction for lynx in relation to the draft revised Forest Plan for the White River National Forest. A final decision regarding the adoption of that direction will be made when the Record of Decision is issued for the White River's Revised Land and Resource Management Plan. That decision is expected in the spring of 2001.

Attachment 1 displays that key LCAS recommendations phrased in terms of goals, standards, and guidelines that will be considered as part of the environmental analysis process. Note that existing and proposed Forest Plans may already contain some direction that is essentially the same as the LCAS recommendations. Each plan will be changed only to the extent necessary to appropriately respond to the LCAS recommendations and other new information.

A range of alternatives that respond to issues developed during scoping will be considered when assessing the proposed action. A reasonable range of alternatives will be evaluated and reasons will be given for eliminating some alternatives from detailed study, if that occurs. A “no-action alternative” is required, meaning that new management direction for the Canada lynx would not be established in Forest Plans.

Purpose and Need

The purpose and need for this proposal is to establish Forest Plan management direction designed to respond to the recommendations in the LCAS and other new information concerning the lynx and its habitat. This proposal is limited to the National Forests in the Rocky Mountain Region and Southern Rocky Mountain Geographic Area that have lynx habitat (see list above).

The Secretary of Interior listed the Canada lynx as a threatened species on March 24, 2000. That decision took effect 30 days after publication, on April 24, 2000. A key finding of the listing decision is that “the inadequacy of existing regulatory mechanisms, specifically the lack of guidance for conservation of lynx in Federal land management plans” (Department of the Interior, Fish and Wildlife Service, 50 CFR part 17, Determination of Threatened Status for the Contiguous U.S. Distinct Population Segment of the Canada Lynx and Related Rule, p. 147) has contributed to the species' decline. When a species is listed, section 7(a)(2) of the Endangered Species Act requires Federal agencies to ensure that activities they authorize, fund, or carry out are not likely to jeopardize the continued existence of the species or destroy or adversely modify its critical habitat.

This action is also needed to assure that land and resource management plans are in compliance with species viability requirements in the planning regulations that implement the National Forest Management Act. The Rocky Mountain Region has identified the lynx as a sensitive species, it is listed by the State of Colorado as an endangered species, and the State of Wyoming lists the lynx as a “protected animal”, meaning it is protected from take.

A large amount of new information about the lynx has become available in the past two years. Key elements of this new information to be considered include: (1) The LCAS; (2) a compendium and interpretation of current scientific knowledge in “Ecology and Conservation of Lynx in the United States, published in October 1999; (3) the Canada Lynx Conservation Agreement, prepared in February 2000 and signed by the Forest Service Regional Foresters and Fish and Wildlife Service Regional Directors responsible for the geographic areas within the range of the lynx in the conterminous United States; (4) the release of lynx in Colorado by the Colorado Division of Wildlife; and (5) the decision by the US Fish and Wildlife Service, effective April 24, 2000, to list the lynx as a threatened species in the conterminous United States, under the provisions of the Endangered Species Act. This information has provided a better understanding of the lynx, its prey base and habitat requirements, particularly the forest communities it uses and the ecology of those forests, and risk factors affecting lynx productivity, mortality, and movements. Forest Plans in the Region were largely developed before issues regarding the lynx were identified and without the benefit of the new information on the lynx and its habitat.”

Public Participation

The first formal opportunity to comment took place during the initial scoping process (40 CFR 1501.7) which began with the issuance of the original notice of intent on March 28, 2000, and ended on May 11, 2000. The issuance of this revised notice marks the beginning of a new scoping period, which will end on August 14, 2000. The purpose of this scoping period is to solicit comments on issues relating to the addition of the White River National Forest to the proposed action and environmental analysis, and the effect that may have on any or all of the Forests listed in this notice. Comments submitted during the original scoping period do not need to be resubmitted.

Public participation will be solicited with news releases or by notifying people in person or by mail. All comments, including the names and addresses when provided, are placed in the record and are available for public inspection and copying at the Forest Service Regional Office. Persons wishing to inspect the comments are encouraged to call ahead (303-275-5103) to facilitate entrance into the building.

The Forest Service will work with tribal governments to address issues concerning Indian tribal self-government and sovereignty, natural and cultural resources held in trust, Indian tribal treaty and Executive order rights, and any issues that significantly or uniquely affect their communities.

Preliminary Issues

Some preliminary issues have already been identified and are listed below. These issues apply only to National Forest System lands on the units listed previously in this notice.

• The adoption of new Forest Plan goals, objectives, standards, guidelines and monitoring requirements (hereafter referred to as “management direction”) is expected to maintain or enhance habitat conditions for the lynx on National Forest lands. Project implementation is expected to facilitate the development of landscape and site characteristics suitable for lynx and its principal prey, the snowshoe hare.

• The adoption of new management direction may affect the areas where winter and summer recreation take place and how and when these activities are conducted. Activities like cross country skiing, snowmobiling, off-road vehicle use and developed recreation facilities could be affected. New direction could also affect ski area operations and expansions.

• The adoption of new management direction may affect the ability to use roads and trails, the construction of roads and trails and the closure or decommissioning of roads and trails. This potentially influences activities like recreational use, oil and gas leasing, mineral development or other uses associated with Forest Service roads and trails.

• The adoption of new management direction may affect timber harvest practices in order to protect lynx denning sites and foraging areas or to minimize disturbance in key habitat linkage areas. New plan direction may also affect the type of harvest or the timing of harvest in order to preserve or enhance the habitat of the snowshoe hare, a key prey species.

• The adoption of new management direction may affect livestock grazing by requiring that vegetation conditions be maintained to support lynx prey species.

The Forest Service, Rocky Mountain Region is the lead agency. No joint lead agencies have been identified at this time. The Forest Service will continue to cooperate with other federal and state agencies as this action proceeds. There are no permits or licenses required to implement the proposed action.

Release and Review of the EIS

The Forest Service expects the DEIS to be filed with the Environmental Protection Agency (EPA) and to be available for public, agency, and tribal government comment in the fall of 2000. At that time, the EPA will publish a notice of availability for the DEIS in the Federal Register. The comment period on the DEIS will be 45 days from the date the EPA publishes the notice of availability in the Federal Register.

The Forest Service believes, at this early stage, it is important to give reviewers notice of several court rulings related to public participation in the environmental review process. First, potential reviewers of the DEIS must participate in the environmental review of the proposal, including this initial scoping period, in such a way that their participation is meaningful and alerts an agency to the reviewer's position and contentions; Vermont Yankee Nuclear Power Corp. v. NRDC [435 U.S. 519, 553 (1978)]. Also, environmental objections that could be raised at the DEIS stage but are not raised until after completion of the final environmental impact statement (FEIS) may be waived or dismissed by the courts; City of Angoon v. Hodel, 803 F.2d 1016, 1022 (9th Cir. 1986) and Wisconsin Heritages, Inc., v. Harris, 490 F.Supp. 1334, 1338 (E.D. Wis. 1980). Because of these court rulings, it is very important that those interested in this proposed action participate throughout the process, so that substantive comments and objections are made available to the Forest Service at a time when it can meaningfully consider them and respond to them in the FEIS.

To assist the Forest Service in identifying and considering issues and concerns relating to the proposed actions, comments on the DEIS, when it becomes available, should be as specific as possible. It is also helpful if comments refer to specific pages or chapters of the draft statement. Comments may also address the adequacy of the DEIS or the merits of the alternatives formulated and discussed in the statements. In addressing these points, reviewers may wish to refer to the Council on Environmental Quality Regulations for implementing the procedural provisions of the National Environmental Policy Act at 40 CFR 1503.3. After the comment period on the DEIS ends, comments will be analyzed, considered, and responded to by the Forest Service in preparing the Final EIS. The FEIS is scheduled to be completed in early 2001. The responsible official will consider the comments, responses, environmental consequences discussed in the FEIS, and applicable laws, regulations and policies in making decisions regarding these amendments.

The FEIS will be the basis for one or more decisions regarding Forest Plans within the range of the Canada lynx in the Southern Rockies geographic area. The responsible official will decide whether or not to implement management direction for the lynx in Forest Plans for the Routt National Forest; Arapaho and Roosevelt National Forests; Pike and San Isabel National Forests; the San Juan National Forest; Grand Mesa, Uncompahgre and Gunnison National Forests; the Rio Grande National Forest, and the Medicine Bow National Forest. The responsible official will document these decisions and reasons for the decisions in one or more Records of Decision. The decisions will be subject to appeal in accordance with 36 CFR 215 in accordance with 36 CFR 217 depending on whether the amendments are significant under the National Forest Management Act requirements at 36 CFR 219.10(f). In addition, the Rocky Mountain Regional Forester will make a separate decision regarding revision of the Forest Plan for the White River National Forest, and document it in another Record of Decision. That decision will be based primarily on the FEIS for the revised White River Land and Resource Management Plan, but will also utilize information contained in this FEIS.

Dated: June 26, 2000.
Lyle Laverty,
Regional Forester, Rocky Mountain Region, U.S. Forest Service.

Attachment 1—Key Recommendations of the LCAS, Phrased in Terms of Potential Goals, Standards, and Guidelines

Goals, Standards, and Guidelines

The goals, standards, and guidelines generally apply only to lynx habitat within a Lynx Analysis Unit. Lynx habitat occurs in mesic coniferous forests that have cold, snowy winters and provide a prey base of snowshoe hare. Lynx habitat is a mosaic within the Engelmann spruce, subalpine fir, lodgepole pine, aspen, mesic Douglas-fir and mesic white fir forested landscapes, generally between 8,000 and 12,000 feet. High elevation sagebrush and mountain shrub communities found adjacent to or intermixed with the forest communities may be potentially important as habitat for alternative prey species.

Category: Physical

Water and Aquatic Resources—Riparian Areas and Wetlands

Standard:

Refer to:

• Range, standard #1.

Category: Biological

Range

Goals:

1. Mange grazing to maintain or move toward the composition and structure of native plant communities within lynx habitat and adjacent shrub-steppe habitats.

Standards:

1. Within lynx habitat, manage livestock grazing in riparian areas and willow carrs to maintain or achieve mid-seral or later condition to provide cover and forage for lynx prey species.

2. Delay livestock use in post-fire and post-harvest created openings until successful regeneration of the shrub and tree components occurs.

Guidelines:

1. Ensure that ungulate grazing does not impede the development of snowshoe hare habitat in natural or created openings within lynx habitat.

2. Manage grazing in aspen stands to ensure sprouting and sprout survival sufficient to perpetuate the long-term viability of the clones.

3. Maintain or achieve mid-seral or higher condition in shrub-steppe habitat that is within the elevational range of forested lynx habitat or that provides landscape connectivity between blocks of primary lynx habitat.

Silviculture

Goals:

1. Design regeneration harvest, planting, and thinning to develop characteristics suitable for lynx and snowshoe hare habitat.

2. Maintain suitable acres or lynx habitat and juxtaposition of habitat through time when planning timber sales and related activities.

Standards:

1. Pre-commercial thinning will be allowed only when stands no longer provide snowshoe hare habitat (e.g., self-pruning processes have eliminated snowshoe hare cover and forage availability during winter conditions with average snowpack).

2. In aspen stands within lynx habitat, favor regeneration of aspen.

3. Following a disturbance such as blowdown, fires, insects, and disease, where lynx denning habitat is less than 10% of a Lynx Analysis Unit, do not salvage harvest when the affected area is smaller than 5 acres if it could contribute to lynx denning habitat. (Exceptions are developed recreation sites or other sites of high human concentration.) Where larger areas are affected, retain a minimum of 10% of the affected area per Lynx Analysis Unit in patches of at least 5 acres to provide future denning habitat. In such areas, defer or modify management activities that would prevent development or maintenance of lynx foraging habitat.

Also refer to:

• Threatened, Endangered, and Sensitive Species, Lynx Analysis Units, standards 1 and 2.

• Threatened, Endangered, and Sensitive Species, Denning and Foraging Habitat, standard #1.

• Travelways, standard #1.

Guidelines:

1. Management activities retain adequate amounts of coarse woody debris for lynx and snowshoe hare cover, if it exists on site.

2. Commercial thinning projects shall maintain or enhance lynx habitat.

3. Design vegetation management activities that consider retaining or encouraging tree species composition and structure that will provide habitat for red squirrels or other lynx alternate prey species.

Also refer to:

• Range, guideline #2.

• Threatened, Endangered, Sensitive Species, Denning and Foraging Habitat, guideline #1.

• Fire, guidelines 4 and 7.

Threatened, Endangered, and Sensitive Species

Lynx Analysis Units

Goals:

1. Maintain effectiveness of lynx habitat. (Effectiveness is primarily affected by high level of human use.)

Standards:

1. If more than 30% of the lynx habitat in a Lynx Analysis Unit (LAU) is currently in unsuitable condition, no further reduction of suitable habitat shall occur as a result of vegetation management activities.

2. Vegetation management shall not change more than 15 percent of lynx habitat within a LAU to unsuitable condition within a 10-year period.

Denning and Foraging Habitat

Goal:

1. Provide a landscape with interconnected blocks of high quality foraging and denning habitat that allows lynx movement between these habitats.

Standard:

1. Within a Lynx Analysis Unit, maintain denning habitat on at least 10% of the area that is capable of producing stands with characteristics suitable for denning habitat. Denning habitat should be well distributed, in patches generally larger than 5 acres. This applies to vegetation treatment, timber harvest, prescribed fire, fire suppression actions, and other similar activities.

Guidelines:

1. In areas where future denning habitat is desired, or to extend the production of snowshoe hare foraging habitat where forage quality and quantity is declining due to plant succession, consider improvement of habitat through activities such as commercial thinning and selection harvesting. Use harvesting and thinning to retain and recruit understories of small diameter conifers and shrubs preferred by hares and to retain and recruit coarse woody debris.

2. Maintain or improve the juxtaposition of denning to foraging habitat. This can be important in large wildfire events in late seral.

3. Design vegetation and fire management activities to retain or restore lynx denning habitat on landscapes with the highest probability of escaping stand-replacing fire events.

Connectivity and Fragmentation

Goals:

1. Maintain and, where necessary and feasible, restore lynx habitat connectivity across forested landscapes and within and between Lynx Analysis Units. Facilitate wildlife movement within key linkage areas considering highway crossing structures when feasible.

2. Within Lynx Analysis Units that have been fragmented by past management activities that reduced the quality of lynx habitat, management practices will be implemented to move toward forest composition, structure and patterns more similar to those that would have occurred under historical conditions and natural disturbance processes.

Predation/Competition

Goal:

1. Avoid management practices that would increase competition with and predation on lynx

Prey Species:

Goals:

1. Reduce incidental harm or capture of lynx during predator control activities and ensure retention of adequate prey base.

2. Retain and enhance existing habitat conditions for important lynx prey species and alternate prey species, such as the red squirrel.

Category: Disturbance Processes

Fire

Goal:

1. Restore fire as an ecological process through time and use fire as a tool to maintain, enhance, or restore lynx habitat.

Standards:

Refer to:

• Silviculture, standard #3.

• Threatened, Endangered, and Sensitive Species, Lynx Analysis Units, standards 1 and 2.

• Threatened, Endangered, and Sensitive Species, Denning and Foraging Habitat, standard #1.

Guidelines:

1. Consider prescriptions that can result in regeneration and the creation of snowshoe hare habitat when developing burn prescriptions, especially for lodgepole pine and aspen.

2. Design burn prescriptions to promote response by shrub and tree species that are favored by snowshoe hare.

3. Consider the need for pre-treatment of fuels before conducting management ignitions.

4. In lynx habitat, avoid constructing permanent firebreaks on ridges or saddles.

5. Minimize construction of temporary roads and machine fire lines to the extent possible during fire suppression activities in lynx habitat.

6. In the event of a large wildfire in stands that were formally late seral, during the post-disturbance assessment prior to restoration or salvage harvesting, evaluate the potential for providing for lynx denning and foraging habitat.

Also refer to:

• Silviculture, guideline #3.

• Threatened, Endangered, and Sensitive Species, Denning and Foraging Habitat, guidelines 2 and 3.

Category: Social

Recreation—Developed Recreation

Standard:

1. Locate new or relocated trails, roads, and ski lift termini to direct winter use away from diurnal security habitat.

2. Protect key linkage areas when planning new or expanding recreational developments.

Guidelines:

1. Provide adequately sized coniferous inter-trail islands, including the retention of coarse woody material, to maintain snowshoe hare habitat when designing ski area expansions.

2. Identify and protect potential lynx security habitats in and around proposed developments or expansions.

3. Evaluate, and adjust as necessary, ski operations in expanded or newly developed areas to provide nocturnal foraging opportunities for lynx in a manner consistent with operational needs, especially in landscapes where lynx habitat occurs as narrow bands of coniferous forest across the mountain slopes.

Recreation—Dispersed Recreation

Standards:

1. Allow no net increase in groomed or designated over-the-snow routes and designated snowmobile play areas by Lynx Analysis Units unless the designation serves to consolidate unregulated use and improves lynx habitat. Winter logging activity would be an exception.

Guidelines:

1. Limit or discourage activities that result in snow compaction in areas where it is shown to compromise lynx habitat. Such actions should be undertaken on a priority basis considering habitat function and importance.

Also refer to:

• Travelways, guidelines 3 and 4.

Category: Administrative

Infrastructure—Travelways

Standard:

1. Close temporary roads constructed for timber sale activities in lynx habitat to public use during the winter.

Guidelines:

1. Design new roads that could impact lynx habitat, especially the entrance, for effective closure and subsequent decommissioning, if it meets overall management objectives.

2. Minimize roadside brushing on low speed, low volume roads in order to provide snowshoe hare habitat.

3. Locate trails and roads away from forested stringers to avoid fragmentation.

4. Minimize creation of permanent travelways on ridgetops and saddles that could facilitate increased access by lynx competitors in lynx habitat.

Real Estate—Land Adjustments

Goal:

1. Retain key wildlife linkage areas on National Forest System lands in public ownership. Cooperate with other ownerships to establish unified management direction via habitat conservation plans, conservation easements or agreements, and land acquisition.

Special Uses

Goal:

1. Design activities and facilities to minimize impacts on lynx habitat.

Standard:

1. Restrict authorized use under permits to designated routes when in lynx habitat on projects where over-snow access is required. Close newly constructed roads to public access during project activities. Upon project completion, evaluate the need to reclaim these roads.

Guideline:

1. Encourage remote monitoring of sites that are located in lynx habitat, so that they do not have to be visited daily.

Transportation and Utility Corridors

Goals:

1. Reduce the potential for lynx mortality related to highways.

2. Work cooperatively with the Federal Highway Administration and State Departments of Transportation to address the movement needs of lynx.

Standard:

Maintain connectivity of lynx habitat during the planning for highway rights-of-ways, construction, reconstruction, and other possible transportation corridors.

GLOSSARY

Fragmentation—Human alteration of natural landscape patterns, resulting in reduction of total area, increased isolation of patches, and reduced connectivity between patches of natural vegetation.

Highway—A road that is at least 2 lanes wide, paved with asphalt or concrete. Average daily traffic may exceed 5,000 vehicles and speeds are 45 mph or greater.

Key Linkage Areas—Critical areas for lynx habitat. Usually, the factors that place connectivity at risk are highways or private land developments. Special management emphasis is recommended to maintain or increase the permeability of key linkage areas.

Lynx Analysis Unit (LAU)—The LAU is a project analysis unit upon which direct, indirect, and cumulative effects analyses are performed. LAU boundaries should remain constant to facilitate planning and allow effective monitoring of habitat changes over time. an area of at least the size used by an individual lynx, about 25-50 square miles in contiguous habitat (should be larger in less contiguous, poorer quality, or naturally fragmented habitat.

Lynx Denning Habitat—Habitat used during parturition and rearing of young until they are mobile. The common component appears to be large amounts of coarse woody debris, either down logs or root wads. The coarse woody debris provides escape and thermal cover for kittens. Denning habitat may be found either in older mature forest of conifer or mixed conifer/deciduous types, or in regenerating stands (greater than 20 years since disturbance). Denning habitat must be located within daily travel distance of foraging habitat.

Lynx Diurnal Security Habitat—In lynx habitat, areas that provide secure winter daytime bedding sites for lynx in highly disturbed landscapes, e.g., large developed winter recreational sites or areas of concentrated winter recreational use. It is presumed that lynx may be able to adapt to the presence of regular and concentrated human use during winter, so long as other critical habitat needs are being met, and security habitat blocks are present and adequately distributed in such disturbed landscapes. Security habitat will provide lynx the ability to retreat from human disturbance during winter daytime hours, emerging at dusk to hunt when most human activity ceases. Security habitats will generally be sites that naturally discourage winter human activity because of extensive forest floor structure, or stand conditions that otherwise make human access difficult, and should be protected to the degree necessary. Security habitats are likely to be most effective if they are sufficiently large to provide effective visual and acoustic insulation from winter human activity and to easily allow movement away from infrequent human intrusion. These winter habitats must be distributed such that they are in proximity to foraging habitat.

Lynx Foraging Habitat—Habitat that supports primary prey (snowshoe hare) and/or important alternate prey (especially red squirrels) that are available to lynx. The highest quality snowshoe hare habitats are those that support a high density of young trees or shrubs (greater than 4,500 stems or branches per acre), tall enough to protrude above the snow. These conditions may occur in early successional stands following some type of disturbance, or in older forests with a substantial understory of shrubs and young conifer trees. Coarse wood debris, especially in early successional stages (created by harvest regeneration units and large fires), provides important cover for snowshoe hares and other prey. Red squirrel densities tend to be highest in mature cone-bearing forests with substantial quantities of coarse woody debris.

Lynx Habitat—Lynx occur in mesic coniferous forest that have cold, snowy winters and provide a prey base of snowshoe hare. Lynx records occur predominantly in lodgepole pine, subalphine fir, Engelmann spruce, and aspen vegetation cover types on subalpine fir habitat types in the western United States. Cool, moist Double-fir, grand fir, or western larch forest, where they are interspersed with subalphine forests, also provide habitat for lynx.

Primary Lynx Habitat—Habitat that must be present to support foraging, denning, and rearing of young (in the western U.S. primary habitat is lodgepole pine or subalphine fir habitat types).

Secondary Lynx Habitat—Other vegetation types, when intermingled with or immediately adjacent to primary habitat, that contribute to lynx annual needs (cool/moist Douglas-fir habitat types adjacent to primary habitat).

Unsuitable Habitat Condition—An area that is capable of producing lynx foraging or denning habitat, but which currently does not have the necessary vegetation composition, structure and/or denisyt ot support lynx and snowshoe hare populations during all seasons. For example, during the winter, vegetation must provide dense cover that extends above (greater than 6 feet) the average snow depth. Timber harvest, salvage harvest, commercial thinning, and prescribed fire may or may not result in unsuitable habitat conditions.

Snowshow Hare Habitat—See foraging habitat.

[FR Doc. 00-16546 Filed 6-29-00; 8:45 am]

BILLING CODE 3410-81-M